DEPARTMENT OF HEALTH AND HUMAN SERVICES

Centers for Medicare & Medicaid Services

[Document Identifier: CMS-10249 and CMS-10120]

Agency Information Collection Activities; Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Administrative Requirements for section 6071 of the Deficit Reduction Act of 2005 (DRA); Use: CMS will use an Operational Protocol Instruction Guide and template for the development of Operational Protocols for the States selected to participate in the Money Follows the Person (MFP) Rebalancing Demonstration. The guide will provide instruction on the required elements of the State's Operational Protocol, which must be submitted and approved before a State may enroll individuals in the State's demonstration program or begin to claim service dollars. The DRA Section 6071(c)(9) requires the States to provide information and assurances that total expenditures under the State Medicaid program for home and community-based long-term care services will not be less for any fiscal year during the MFP demonstration project than for the greater of such expenditures for fiscal year 2005 or any succeeding fiscal year before the first of the year of the MFP demonstration project. Accordingly, States are required to submit Maintenance of Effort (MOE) forms and MFP Budget forms on an annual basis. Additionally, in order to receive enhanced FMAP, States are required to submit the MFP Demonstration Financial Forms on a quarterly basis. Section 6071(g) of the DRA requires a national evaluation of the MFP demonstration project and a final report to the President and Congress. For the national evaluation, States will be required to submit semi-annual reports that describe their progress in implementing their MFP programs and rebalancing their long-term care systems. In addition, States will be required to submit on a quarterly basis an MFP Finders File, which will include eligibility records for all MFP participants, and an MFP Services File, which will include records for each service funded with MFP grant funds. Form Number: CMS-10249 (OMB#: 0938-NEW); Frequency: Reporting—Yearly, Quarterly, Semi-annually and Once; Affected Public: States, Local or Tribal Governments; Number of Respondents: 31; Total Annual Responses: 229.4; Total Annual Hours: 7,843.

2. Type of Information Collection Request: Extension without change of a currently approved collection; Title of Information Collection: 1932 State Plan Amendment Template, State Plan Requirements and Supporting Regulations in 42 CFR 438.50; Form No.: CMS-10120 (OMB# 0938-0933); Use: The State Medicaid Agencies will complete the template. CMS will review the information to determine if the State has met all the requirements under 1932(1)(1)(A) and 42 CFR 438.50. Once all requirements are met, the State will be allowed to enroll Medicaid beneficiaries on a mandatory basis into managed care entities without section 1115 or 1915(b) waiver authority; Frequency: On occasion; Affected Public: State, local, or tribal government; Number of Respondents: 56; Total Annual Responses: 10; Total Annual Hours: 100.

To obtain copies of the supporting statement and any related forms for the proposed paperwork collections referenced above, access CMS' Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on October 30, 2007.

CMS, Office of Strategic Operations and Regulatory Affairs, Division of Regulations Development—A, Attention: Melissa Musotto, Room C4-26-05, 7500 Security Boulevard, Baltimore, Maryland 21244-1850.

Dated: August 24, 2007.
Michelle Shortt,
Director, Regulations Development Group, Office of Strategic Operations and Regulatory Affairs.

[FR Doc. E7-17351 Filed 8-30-07; 8:45 am]

BILLING CODE 4120-01-P